DEPARTMENT OF THE INTERIOR

Fish and Wildlife Service

50 CFR Part 17

RIN 1018-AI48

Endangered and Threatened Wildlife and Plants; Designation of Critical Habitat for the Arizona Distinct Population Segment of the Cactus Ferruginous Pygmy-owl (Glaucidium brasilianum cactorum)

AGENCY: Fish and Wildlife Service, Interior.

ACTION: Proposed rule; reopening of public comment period.

SUMMARY: We, the U.S. Fish and Wildlife Service (Service), announce the reopening of the public comment period for the proposal to designate critical habitat pursuant to the Endangered Species Act of 1973, as amended (Act), for the Arizona distinct population segment of the cactus ferruginous pygmy-owl (Glaucidium brasilianum cactorum), and for the draft economic analysis for the proposed designation. Additional information from the administrative record concerning the locations of pygmy-owls recently has become available to the public, and therefore we are reopening the comment period for the proposal and for the draft economic analysis to allow all interested parties additional time to review the available information and provide comments. Comments previously submitted need not be resubmitted, because they will be incorporated into the public record as part of this reopening of the comment period, and will be fully considered in the final rule.

DATES: We will accept comments on both the proposed critical habitat designation and the draft economic analysis until June 27, 2003.

ADDRESSES: Send comments and information concerning the proposed critical habitat designation and draft economic analysis to the Field Supervisor, Arizona Ecological Services Office, 2321 West Royal Palm Road, Suite 103, Phoenix, AZ 85021. You also may send written comments by facsimile to 602/242-2513. For instructions on submitting comments by electronic mail (e-mail), see Public Comments Solicited in the SUPPLEMENTARY INFORMATION section of this notice.

Information from the administrative record, including the information that recently has become available to the public concerning the location of pygmy-owls, as well as comments and materials received, are available for public inspection, by appointment, during normal business hours at the above address. You may also write the Field Supervisor at the address above, or call 602/242-0210 to request that a copy of material be mailed to you or made available for you to pick up at the address above. You may also obtain a copy of the draft economic analysis on the Internet at http://arizonaes.fws.gov/cactus.htm.

FOR FURTHER INFORMATION CONTACT: Steve Spangle, Field Supervisor (see ADDRESSES), at telephone 602/242-0210; or by facsimile at 602/242-2513.

SUPPLEMENTARY INFORMATION: Our proposal to designate critical habitat for the Arizona distinct population segment of the cactus ferruginous pygmy-owl (Glaucidium brasilianum cactorum) (pygmy-owl) was published on November 27, 2002 (67 FR 71032). In the November proposal we also announced the availability of the draft economic analysis for the proposed designation of critical habitat. The public comment period on the proposal and the draft economic analysis was scheduled to close on February 25, 2003. On that date, we published a notice in the Federal Register (68 FR 8730) extending the public comment period until April 25, 2003. The extension was based on a February 3, 2003, order from the United States District Court for the District of Arizona to allow the Plaintiffs and Intervenors in National Home Builders Association v. Norton, Civ. No. 000903-PHX-SRB (D.Az.), 60 additional days to review and comment on materials used by us to develop our critical habitat determination for the pygmy-owl.

Recently, additional information from the administrative record concerning the locations of pygmy-owls has become available to the public, in part as a result of a court ruling in National Association of Home Builders v. Norton, 309 F.3d 26 (D.C. Cir. 2002). In order to provide all interested parties adequate time to review and comment on the recently available information and other materials used by the Service to develop the proposed rule to designate critical habitat for the pygmy-owl, we are reopening the comment period on the proposal and the draft economic analysis for an additional 60 days.

Public Comments Solicited

We are reopening the comment period in order to accept the best and most current scientific and commercial data available regarding the proposed critical habitat designation for the pygmy-owl and the draft economic analysis of the proposal. The Public Comments Solicited section of the preamble to our proposed rule (67 FR 71032) includes a list of topics for which we are particularly seeking comments. Previously submitted comments need not be resubmitted. You may submit written comments by any of several methods:

You may mail or hand-deliver written comments to the Field Supervisor, Arizona Ecological Services Office (see ADDRESSES section). Hand deliveries must be made during normal business hours.

You may send comments by e-mail to cfpo_habitat@fws.gov. If you submit comments by e-mail, please submit them as an ASCII file and avoid the use of special characters and any form of encryption. Please also include a return address in your e-mail message.

You may send written comments by facsimile to 602/242-2513.

Prior to making a final determination on this proposed rule, we will take into consideration all relevant comments and additional information received during the comment period. You may inspect comments and materials received, as well as supporting documentation used by us in preparation of the proposal to designate critical habitat, by appointment during normal business hours at our office listed in the ADDRESSES section.

Authority

The authority for this action is the Endangered Species Act of 1973 (16 U.S.C. 1531 et seq.).

Dated: April 21, 2003.
Paul Hoffman,
Acting Assistant Secretary for Fish and Wildlife and Parks.

[FR Doc. 03-10531 Filed 4-24-03; 12:48 pm]

BILLING CODE 4310-55-P